POSTAL REGULATORY COMMISSION

39 CFR Part 3050

[Docket No. RM2022-10; Order No. 6225]

Periodic Reporting

AGENCY: Postal Regulatory Commission.

ACTION: Notice of proposed rulemaking.

SUMMARY: The Commission is acknowledging a recent filing requesting the Commission initiate a rulemaking proceeding to consider changes to analytical principles relating to periodic reports (Proposal Four). This document informs the public of the filing, invites public comment, and takes other administrative steps.

DATES: Comments are due: August 31, 2022.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Proposal Four

III. Notice and Comment

IV. Ordering Paragraphs

I. Introduction

On July 11, 2022, the Postal Service filed a petition pursuant to 39 CFR 3050.11 requesting that the Commission initiate a rulemaking proceeding to consider changes to analytical principles relating to periodic reports.¹ The Petition identifies the proposed analytical changes filed in this docket as Proposal Four.

¹ Petition of the United States Postal Service for the Initiation of a Proceeding to Consider Proposed Changes in Analytical Principles (Proposal Four), July 11, 2022 (Petition). The Postal Service also filed a notice of filing of non-public materials relating to Proposal Four. Notice of Filing of USPS-RM2022-10-NP1 and Application for Nonpublic Treatment, July 11, 2022.

II. Proposal Four

Proposal. The Postal Service proposes the following five changes to improve and streamline the International Cost and Revenue Analysis (ICRA) model: (1) using Outbound International Service Agreement (negotiated service agreement, referred to as NSA) System for International Revenue and Volume, Outbound (SIRVO) data to attribute outbound settlement expenses and international transportation expenses to NSA products; (2) adding all countries to the outbound piece of the ICRA database and eliminating the 999X countries; (3) using the Settlement Workbooks file as the source for outbound settlement calculations instead of manually entering rates; (4) removing obsolete sections of the ICRA model identified in the Response to CHIR No. 14, Questions 3-4; ² (5) replacing International Accounting Branch (IAB) country numbers with International Organization for Standardization (ISO) codes. See Petition, Proposal Four at 1-3.

² Docket No. ACR2021, Responses of the United States Postal Service to Questions 1-6 of Chairman's Information Request, No. 14, February 18, 2022, questions 3-4 (Response to CHIR No. 14).

Rationale. The Postal Service states that the first proposed change would add a second aggregation step solely for NSA products in order to weight the various NSA product rate groups more accurately and improve the ICRA cost estimates for both NSA and non-NSA products. See id. at 3. The Postal Service states the other four proposed changes would take advantage of additional data sources available to the ICRA, eliminate sections that are no longer used or serve no purpose, and streamline the ICRA model. See id. at 3-4.

Impact. The Postal Service states that non-public materials filed as part of Library Reference USPS-RM2022-10-NP1 accompanying this proposal show the impact of the proposed changes. See id. at 4. The Postal Service maintains these materials show a net impact of zero on total costs of market dominant and competitive products. See id. at 5. For the proposed change on the cost attribution of NSA products, the Postal Service states that for FY 2021, the proposal would not have caused any positive contribution products to turn negative or any negative products to turn positive, there would have been no impact on Inbound NSAs, and all Outbound NSAs would have remained positive. See id.

Mechanics. The Postal Service details a list of changes, adjustments, and eliminations that would be made to various files by the proposal. See id. at 5-14.

III. Notice and Comment

The Commission establishes Docket No. RM2022-10 for consideration of matters raised by the Petition. More information on the Petition may be accessed via the Commission's website at http://www.prc.gov. Interested persons may submit comments on the Petition and Proposal Four no later than August 31, 2022. Pursuant to 39 U.S.C. 505, Samuel Koroma is designated as an officer of the Commission (Public Representative) to represent the interests of the general public in this proceeding.

IV. Ordering Paragraphs

It is ordered:

1. The Commission establishes Docket No. RM2022-10 for consideration of the matters raised by the Petition of the United States Postal Service for the Initiation of a Proceeding to Consider Proposed Changes in Analytical Principles (Proposal Four), filed July 11, 2022.

2. Comments by interested persons in this proceeding are due no later than August 31, 2022.

3. Pursuant to 39 U.S.C. 505, the Commission appoints Samuel Koroma to serve as an officer of the Commission (Public Representative) to represent the interests of the general public in this docket.

4. The Secretary shall arrange for publication of this order in the Federal Register.

By the Commission.
Erica A. Barker,
Secretary.

[FR Doc. 2022-15304 Filed 7-18-22; 8:45 am]

BILLING CODE 7710-FW-P